DEPARTMENT OF DEFENSE

Department of the Navy

Information on Surplus Land at a Military Installation Designated for Disposal: Naval Support Activity “East Bank”, New Orleans, LA

AGENCY: Department of the Navy, DoD.

ACTION: Notice.

SUMMARY: This notice provides information on the surplus property at Naval Support Activity “East Bank”, New Orleans, Louisiana.

FOR FURTHER INFORMATION CONTACT: Ms. Kimberly Kesler, Director, Base Realignment and Closure Program Management Office, 1455 Frazee Road, San Diego, CA 92108-4310, telephone 619-532-0993; or Mr. James E. Anderson, Director, Base Realignment and Closure Management Office, 2144 Eagle Drive, North Charleston, SC 29406, telephone 843-820-5809.

SUPPLEMENTARY INFORMATION: In 2005, Naval Support Activity “East Bank”, New Orleans was designated for closure under the authority of the Defense Base Closure and Realignment Act of 1990, Public Law 101-510, as amended (the Act). Pursuant to this designation, on January 23, 2006, land and facilities at this installation were declared excess to the Department of Navy (Navy) and available to other Department of Defense components and other federal agencies. The Navy has evaluated all timely Federal requests and has made a decision on property required by the Federal Government.

Notice of Surplus Property. Pursuant to paragraph (7)(B) of Section 2905(b) of the Act, as amended by the Base Closure Community Redevelopment and Homeless Assistance Act of 1994, the following information regarding the redevelopment authority for surplus property at Naval Support Activity “East Bank”, New Orleans, Louisiana is published in the Federal Register.

Surplus Property Description. The following is a list of the land and facilities at Naval Support Activity “East Bank”, New Orleans that are surplus to the needs of the Federal Government.

a. Land. Naval Support Activity “East Bank”, New Orleans consists of approximately 25 acres of improved fee simple land located within Orleans parish and the City of New Orleans. In general, this area will be available when the installation closes in March 2011.

b. Buildings. The following is a summary of the buildings and other improvements located on the above-described land that will also be available when the installation closes. Property numbers are available on request.

(1) Administrative/Communication facilities (7 structures). Comments: Approximately 1,512,629 square feet.

(2) Miscellaneous facilities (2 structures). Comments: Includes Gas Station and Switching Building.

(3) Paved areas (roads and surface areas). Comments: Approximately 1,640 square yards consisting of roads, sidewalks, parking lots, etc.

(4) Recreational facilities. Comments: Indoor and outdoor playing courts.

(5) Utility facilities. Comments: Measuring systems vary; gas and water distribution.

Disposal Procedures. At such time as a Local Redevelopment Authority (LRA) is recognized in accordance with Section 2905(b)(7)(B) of the Act, the Department of Defense will publish in the Federal Register and in a newspaper of general circulation in the communities in the vicinity of the installation information on the LRA. The LRA will commence a community outreach effort with respect to the surplus property and will publish in a newspaper of general circulation in the communities within the vicinity of Naval Support Activity, New Orleans, a notice of the time period during which the LRA will receive notices of interest from State and local governments, representatives of the homeless, and other interested parties. That publication will include the name, address, telephone number, and the point of contact for the LRA who can provide information on the prescribed form and contents of the notices of interest.

Dated: May 3, 2006.
Eric McDonald,
Lieutenant Commander, Judge Advocate General's Corps, U.S. Navy, Federal Register Liaison Officer.

[FR Doc. 06-4350 Filed 5-9-06; 8:45 am]

BILLING CODE 3810-FF-M